DEPARTMENT OF ENERGY

Federal Energy Regulatory Commission

Combined Notice of Filings #1

Take notice that the Commission received the following electric rate filings:

Docket Numbers: ER16-1404-002.

Applicants: New York Independent System Operator, Inc.

Description: Compliance filing: NYISO compliance filing re: Renewable Exemption under BSM rules to be effective 6/9/2020.

Filed Date: 4/7/20.

Accession Number: 20200407-5191.

Comments Due: 5 p.m. ET 4/28/20.

Docket Numbers: ER20-862-001.

Applicants: Midcontinent Independent System Operator, Inc.

Description: Compliance filing: 2020-04-07_Compliance Filing—NIPSCO-Interregional Cost Allocation Filing to be effective 3/20/2020.

Filed Date: 4/7/20.

Accession Number: 20200407-5195.

Comments Due: 5 p.m. ET 4/28/20.

Docket Numbers: ER20-1398-000.

Applicants: Ocean State BTM, LLC.

Description: Report Filing: Ocean State BTM, LLC Supplemental Filing to be effective N/A.

Filed Date: 4/3/20.

Accession Number: 20200403-5187.

Comments Due: 5 p.m. ET 4/24/20.

Docket Numbers: ER20-1399-000.

Applicants: Rumford ESS, LLC.

Description: Report Filing: Rumford ESS, LLC Supplemental Filing to be effective N/A.

Filed Date: 4/3/20.

Accession Number: 20200403-5185.

Comments Due: 5 p.m. ET 4/24/20.

Docket Numbers: ER20-1491-001.

Applicants: Wind Wall 1 LLC.

Description: Tariff Amendment: Supplement to MBR Application and Request for Waivers to be effective 12/31/9998.

Filed Date: 4/8/20.

Accession Number: 20200408-5085.

Comments Due: 5 p.m. ET 4/29/20.

Docket Numbers: ER20-1511-000.

Applicants: Little Bear Solar 5, LLC.

Description: Baseline eTariff Filing: Certificate of Concurrence Shared Gen-Tie Facilities Common Ownership Agreement to be effective 4/8/2020.

Filed Date: 4/7/20.

Accession Number: 20200407-5190.

Comments Due: 5 p.m. ET 4/28/20.

Docket Numbers: ER20-1512-000.

Applicants: Monterey NY, LLC.

Description: Tariff Cancellation: cancellation tariff to be effective 4/13/2020.

Filed Date: 4/7/20.

Accession Number: 20200407-5193.

Comments Due: 5 p.m. ET 4/28/20.

Docket Numbers: ER20-1513-000.

Applicants: Pacific Gas and Electric Company.

Description: § 205(d) Rate Filing: PG&E Coyote Valley BESS SGIA (SA 450) to be effective 6/8/2020.

Filed Date: 4/8/20.

Accession Number: 20200408-5100.

Comments Due: 5 p.m. ET 4/29/20.

Docket Numbers: ER20-1514-000.

Applicants: California Independent System Operator Corporation.

Description: § 205(d) Rate Filing: Adjacent Balancing Authority Operating Agreement with Nevada Power Company to be effective 4/30/2020.

Filed Date: 4/8/20.

Accession Number: 20200408-5117.

Comments Due: 5 p.m. ET 4/29/20.

Docket Numbers: ER20-1515-000.

Applicants: Milligan 1 Wind LLC.

Description: Baseline eTariff Filing: Initial MBR Petition of Milligan 1 Wind to be effective 6/8/2020.

Filed Date: 4/8/20.

Accession Number: 20200408-5124.

Comments Due: 5 p.m. ET 4/29/20.

Docket Numbers: ER20-1516-000.

Applicants: PJM Interconnection, L.L.C.

Description: Tariff Cancellation: Notice of Cancellation of ISA, SA No. 3097, Queue No. W2-040 re: Suspension to be effective 1/21/2020.

Filed Date: 4/8/20.

Accession Number: 20200408-5125.

Comments Due: 5 p.m. ET 4/29/20.

Docket Numbers: ER20-1517-000.

Applicants: Little Bear Solar 3, LLC.

Description: § 205(d) Rate Filing: Filing of Shared Gen-Tie Facilities Common Ownership Agreement to be effective 4/9/2020.

Filed Date: 4/8/20.

Accession Number: 20200408-5126.

Comments Due: 5 p.m. ET 4/29/20.

Docket Numbers: ER20-1518-000.

Applicants: Duke Energy Carolinas, LLC.

Description: § 205(d) Rate Filing: DEC—Cube Hydro Dynamic Transfer Agreement (RS No. 550) to be effective 6/8/2020.

Filed Date: 4/8/20.

Accession Number: 20200408-5128.

Comments Due: 5 p.m. ET 4/29/20.

Take notice that the Commission received the following electric securities filings:

Docket Numbers: ES20-19-000.

Applicants: Michigan Electric Transmission Company, LLC.

Description: Application Under Section 204 of the Federal Power Act for Authorization to Issue Securities of Michigan Electric Transmission Company, LLC.

Filed Date: 4/8/20.

Accession Number: 20200408-5092.

Comments Due: 5 p.m. ET 4/29/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 8, 2020.
Nathaniel J. Davis, Sr.,
Deputy Secretary.

[FR Doc. 2020-07831 Filed 4-13-20; 8:45 am]

BILLING CODE 6717-01-P